DEPARTMENT OF THE TREASURY

United States Secret Service

Privacy Act of 1974, as Amended; System of Records

AGENCY: United States Secret Service, Treasury.

ACTION: Notice of systems of records.

SUMMARY: In accordance with the requirements of the Privacy Act of 1974, as amended, 5 U.S.C. 552a, the U.S. Secret Service, Treasury, is publishing its Privacy Act systems of records.

SUPPLEMENTARY INFORMATION: Pursuant to the Privacy Act of 1974 (5 U.S.C. 552a) and the Office of Management and Budget (OMB), Circular No. A-130, the U.S. Secret Service has completed a review of its Privacy Act systems of records notices to identify changes that will more accurately describe these records.

Treasury/USSS .002—Chief Counsel Record System, required minor modifications to the “Records Source Categories.”

Treasury/USSS .005—Freedom of Information Request System has been incorporated into the Treasury-wide notice entitled “DO .150—Freedom of Information Act/Privacy Act Request Records.” The system of records notice was deleted from the Service's inventory of Privacy Act notices on December 3, 1999, at 64 FR 67966.

Other changes throughout the systems notice are editorial in nature and consist principally of changes to the “System Locations” and “System Manager(s) Address.”

Systems Covered by This Notice: This notice covers all systems of records adopted by the U.S. Secret Service up to June 1, 2001.

The systems notices are reprinted in their entirety following the Table of Contents.

Dated: August 16, 2001.
W. Earl Wright, Jr.,
Chief Management and Administrative Programs Officer.

Table of Contents

USSS .001—Administrative Information System

USSS .002—Chief Counsel Record System

USSS .003—Criminal Investigation Information System

USSS .004—Financial Management Information System

USSS .006—Non-Criminal Investigation System

USSS .007—Protection System

USSS .008—Public Affairs Record System

USSS .009—Training Information System

United States Secret Service

Treasury/USSS .001

SYSTEM NAME:

Administrative Information System—Treasury/USSS.

SYSTEM LOCATION:

(a) U.S. Secret Service (Headquarters), 950 H St. NW, Washington, DC 20223. Components of this System are geographically dispersed throughout U.S. Secret Service field offices. (See below, United States Secret Service, Appendix A, listing the addresses of Secret Service offices.) (b) U.S. Secret Service Uniformed Division, 1111 18th St., NW, Washington, DC 20223; (c) Presidential Protective Division, U.S. Secret Service, Room 10, Old Executive Office Building, 17th and Pennsylvania Ave., NW, Washington, DC 20502; (d) Vice Presidential Protective Division, U.S. Secret Service, Old Executive Office Building, Room 295, Washington, DC 20502; (e) Dignitary Protective Division, U.S. Secret Service, 950 H St., NW, Washington, DC 20223; (f) Special Services Division, U.S. Secret Service, Anacostia Naval Annex, Building 411, 245 Murray Drive, Washington, DC 20373; (g) Johnson Protective Division, U.S. Secret Service, P.O. Box 927, Stonewall, TX 78671; (h) Ford Protective Division, U.S. Secret Service, P.O. Box 955, Rancho Mirage, CA 92270-955; (i) Technical Security Division, U.S. Secret Service, 1709 New York Avenue, NW., Washington, DC 20006; (j) Carter Protective Division, U.S. Secret Service, P.O. Box 308, Plains, GA 31780; (k) Reagan Protective Division, U.S. Secret Service, 2121 Avenue of the Stars, Century City, CA 90067; (l) Bush Protective Division, U.S. Secret Service, P.O. Box 79797, Houston, Texas 77279-9797; (m) White House Security Branch, U.S. Secret Service, Old Executive Office Building, Rm. 23, Washington, D.C. 20502.

Categories of INDIVIDUALS COVERED BY THE SYSTEM:

(a) Individuals who are now or were Secret Service employees; (b) Individuals, contractors, and vendors, etc., who are presently doing or previously did business with the Secret Service; (c) Claimants against the Secret Service under the Federal Tort Claims Act and the Military Personnel and Federal Employees Claims Act.

CATEGORIES OF RECORDS IN THE SYSTEM:

(a) Records containing information on issuance of Secret Service equipment and accountable government property; (b) Records containing procurement negotiations, contracts, agreements, etc., with the Secret Service; (c) Records containing information on past, present, and future administrative correspondence with individuals, contractors, vendors, etc., who have or plan to enter into contractual agreements with the Secret Service; (d) Records on vehicle accidents, injuries, fatalities.

AUTHORITY FOR MAINTENANCE OF THE SYSTEM:

Title 40 and 41 of the U.S. Code, and other rules and regulations where applicable; 5 U.S.C. 301; 44 U.S.C. 3101.

ROUTINE USES OF RECORDS MAINTAINED IN THE SYSTEM, INCLUDING CATEGORIES OF USERS AND THE PURPOSES OF SUCH USES:

(1) Disclosure of information to the Department of Treasury, GAO, OMB, GSA, the Department of Justice and other Federal, state, and local government agencies regarding purchases, contracts, and anticipated purchases and contracts of the Secret Service; (2) To provide administrative services for the Secret Service and maintain administrative records as required by law; (3) To use in the adjudication of any claim for or against the Secret Service; (4) Disclosure to individuals, contractors, vendors, etc., for the purpose of inquiries relating to or confirmation of orders and purchases; (5) Disclosure to a student participating in a Secret Service student volunteer program, where such disclosure is necessary to further the efforts of the Secret Service.

POLICIES AND PRACTICES FOR STORING, RETRIEVING, ACCESSING, RETAINING, AND DISPOSING OF RECORDS IN THE SYSTEM:

STORAGE:

Records are contained in file jackets and portions of the information are stored electronically at Headquarters.

RETRIEVABILITY:

Records may be retrieved by name and/or number.

SAFEGUARDS:

(1) File jackets and electronic data at Headquarters are located in locked rooms which are secured by alarms and other internal security devices with guards on duty on an around the clock basis. Access is available only to employees responsible for records management and operational employees who have a need for such information, each of whom holds a top secret security clearance; (2) The file jackets in Secret Service field offices are located in locked file cabinets or in locked rooms when Secret Service employees are not on duty. Access to the system is limited to employees of the Secret Service holding top secret security clearances.

RETENTION AND DISPOSAL:

The file jackets and electronic data are retained in accordance with mandatory National Archives Records Administration (NARA), General Records Schedules 3, 4, 8, 10, 11, 13, & 23. Disposal is by burning, shredding, and/or electronic deletion.

SYSTEM MANAGER(S) AND ADDRESS:

Assistant Director, Office of Administration, U.S. Secret Service, 950 H St., NW, Suite 8250, Washington, DC 20223.

NOTIFICATION PROCEDURE:

Individuals who wish to present a request as to whether this system contains records pertaining to them should address inquiries to: Freedom of Information and Privacy Acts Officer, U.S. Secret Service, 950 H St., NW, Suite 3000, Washington, DC 20223.

RECORD ACCESS PROCEDURES:

Requests for information contained in this system should be addressed to: Freedom of Information and Privacy Acts Officer, U.S. Secret Service, 950 H St., NW, Suite 3000, Washington, DC 20223.

CONTESTING RECORD PROCEDURES:

See “Record access procedures” above.

RECORD SOURCE CATEGORIES:

(a) Individuals who are presently or were Secret Service employees; (b) Individuals, corporations, companies, contractors, etc., previously engaged or presently engaged in business with the Secret Service; (c) Claimants.

EXEMPTIONS CLAIMED FOR THE SYSTEM:

None.

Treasury/USSS .002

SYSTEM NAME:

Chief Counsel Record System—Treasury/USSS.

SYSTEM LOCATION:

Office of Chief Counsel, United States Secret Service, 950 H St., NW, Washington, DC 20223.

CATEGORIES OF INDIVIDUALS COVERED BY THE SYSTEM:

(a) Individuals who have filed administrative claims; (b) Individuals involved in litigation against the U.S. Secret Service; (c) Individuals who have filed a petition regarding forfeiture; (d) Employees, former employees or applicants who have filed equal employment opportunity claims against the U.S. Secret Service; (e) Employees or former employees who have appealed disciplinary actions taken against them by the U.S. Secret Service to the Merit System Protection Board.

CATEGORIES OF RECORDS IN THE SYSTEM:

(a) Copies of administrative claims filed against the Secret Service or employees of the U.S. Secret Service and responses thereto; (b) Any type of legal document, including but not limited to complaints, summaries, affidavits, litigation reports, motions, subpoenas and any other court filing or administrative filing or evidence; (c) Records concerning requests for information regarding the use of reproductions of obligations of the United States including bonds, checks, coins, coupons, currencies (U.S. and foreign), fractional notes, postage stamps (U.S. and foreign), postal money orders, and postmarks.

AUTHORITY FOR MAINTENANCE OF THE SYSTEM:

18 U.S.C. 3056; 28 U.S.C. 2672 (Federal Tort Claims Act); 18 U.S.C. 471-509.

ROUTINE USES OF RECORDS MAINTAINED IN THE SYSTEM, INCLUDING CATEGORIES OF USERS AND THE PURPOSES OF SUCH USES:

(1) Administrative claims may be routinely sent to Department of Justice attorneys to assist them in litigation involving the Secret Service; (2) Legal records and litigation reports may be sent to Department of Justice attorneys to assist them in the preparation for litigation; (3) Records indicating a violation or potential violation of law, whether civil, criminal or regulatory in nature, and whether arising by general statute or particular program statute, or by regulation, rule or order issued pursuant thereto, may be referred to the appropriate Federal, state, local or foreign agency charged with the responsibility of investigating or prosecuting such violation or charged with enforcing or implementing the statute, rule, regulation or order issued pursuant thereto; (4) Disclosures to opposing counsel, a court magistrate or administrative tribunal in the course of a legal proceeding, and disclosures to opposing counsel in the course of discovery proceedings for the purpose of, enforcing, or prosecuting, a violation or potential violation of law, whether civil, criminal or regulatory in nature and whether arising by general statute or particular program statute, or by regulation, rule or order issued pursuant thereto; (5) Disclosures to Federal, state or local agencies maintaining civil, criminal or other relevant enforcement information or other pertinent information, such as current licenses, if necessary to obtain information relevant to an agency decision concerning the hiring or retention of an employee, the issuance of a security clearance, the letting of a contract, or the issuance of a license, grant or other benefit; (6) Disclosures to a Federal agency in response to its request, in connection with the hiring or retention of an employee, the issuance of a security clearance, the reporting of an investigation of an employee, the letting of a contract or the issuance of a license, grant, or other benefit by the requesting agency, to the extent that the information is relevant and necessary to the requesting agency's decision on the matter; (7) Disclosure to a student participating in a Secret Service student volunteer program, where such disclosure is necessary to further the efforts of the Secret Service.

POLICIES AND PRACTICES FOR STORING, RETRIEVING, ACCESSING, RETAINING, AND DISPOSING OF RECORDS IN THE SYSTEM:

STORAGE:

Records are contained in file jackets.

RETRIEVABILITY:

This System is indexed chronologically for administrative claims and requests for information regarding reproductions. Access to the physical files containing litigation records is by name.

SAFEGUARDS:

The file jackets are secured in a locked room with guards on duty on an around-the-clock basis. Access to the records is available only to employees responsible for record management and operational employees who have a need for such information, each of whom holds a top secret security clearance.

RETENTION AND DISPOSAL:

(1) Closed litigation case files are retained for a period of 5 years; (2) Administrative claims, and requests for information are disposed of at varying intervals in accordance with the records retention schedule approved by the National Archives and Records Administration. Any disposal is by shredding and/or burning.

SYSTEM MANAGER(S) AND ADDRESS:

Chief Counsel, U.S. Secret Service, 950 H St., NW, Suite 9200, Washington, DC 20223.

NOTIFICATION PROCEDURE:

Individuals who wish to present a request as to whether the system contains records pertaining to them should address inquiries to: Freedom of Information and Privacy Acts Officer, U.S. Secret Service, 950 H St., NW, Suite 3000, Washington, DC 20223.

RECORD ACCESS PROCEDURES:

Requests for information contained in this System should be addressed to: Freedom of Information and Privacy Acts Officer, U.S. Secret Service, 950 H St., NW, Suite 3000, Washington, DC 20223.

CONTESTING RECORD PROCEDURES:

See “Record access procedures” above.

RECORD SOURCE CATEGORIES:

(a) Administrative claims are filed by those individuals who believe that they have a claim against the U.S. Secret Service; (b) Individuals who are involved in legal proceedings against the U.S. Secret Service. All litigation reports are initiated by Office of Chief Counsel, U.S. Secret Service. Information may be received from courts, administrative bodies, other federal or state agencies and private parties or entities who have information concerning a legal matter involving the U.S. Secret Service, and (c) Requests for information regarding the use of reproductions from Secret Service field offices, the general public, and from professional organizations; other Federal agencies, and Federal, State and local courts.

EXEMPTIONS CLAIMED FOR THE SYSTEM:

None.

Treasury/USSS .003

SYSTEM NAME:

Criminal Investigation Information System—Treasury/USSS.

SYSTEM LOCATION:

(a) United States Secret Service, (Headquarters) 950 H St., NW, Washington, DC 20223; (b) Components of this System are geographically dispersed throughout Secret Service field offices. (See United States Secret Service Appendix A listing the addresses of Secret Service field offices.)

CATEGORIES OF INDIVIDUALS COVERED BY THE SYSTEM:

(a) Individuals who have been or are currently the subject of a criminal investigation by the U.S. Secret Service in connection with the performance by that agency of its authorized criminal investigative functions; (b) Individuals who are payees, registered owners or endorsers of stolen or lost obligations and other securities of the United States; (c) Individuals who are witnesses, complainants, informants, suspects, defendants, fugitives, released prisoners, correspondents, organized crime figures, and victims of crimes who have been identified by the Secret Service in the conduct of criminal investigations or by information supplied by other law enforcement agencies, government units, and the general public.

CATEGORIES OF RECORDS IN THE SYSTEM:

(a) Records containing information compiled for the purpose of identifying individual criminal offenders and alleged offenders and consisting only of identifying data and notations of arrest, the nature and disposition of criminal charges, sentencing, confinement, release, and parole or probation status; (b) Records containing information compiled for the purpose of a criminal investigation, including reports of informants and investigators, and associated with an identifiable individual; (c) Records containing reports identifiable with an individual compiled at various stages of the process of enforcement of criminal laws from arrest or indictment through release from supervision; (d) Records containing investigatory material compiled for law enforcement purposes, including but not limited to, handwriting exemplars; laboratory analyses of inks and papers; handwriting analyses; petitions for the remission of forfeitures; notice of non-receipt of Treasury drafts; affidavits of forged endorsements; opinions of the examiner of questioned documents; reports or opinions from the examination of computer evidence; reports or opinions from the examination of altered cellular telephones; certificates by owners of U.S. registered securities concerning forged requests for payments or assignments; applications for relief on account of loss, theft, or destruction of U.S. Savings Bonds or checks; photographic reproductions of obligations and other securities of the United States; contraband items; claims against the United States for the proceeds of government checks and bonds; and reports necessary for the settlement of check and bond claims; names and telephone numbers of persons intercepted by electronic, mechanical, or other device under the provisions of Title 18 U.S.C., Section 2510 et.seq. compiled during the lawful course of a criminal or civil investigation.

AUTHORITY FOR MAINTENANCE OF THE SYSTEM:

18 U.S.C. 3056.

ROUTINE USES OF RECORDS MAINTAINED IN THE SYSTEM, INCLUDING CATEGORIES OF USERS AND THE PURPOSES OF SUCH USES:

(1) Disclosure to Federal, state, and local government agencies foreign or domestic, having prosecutive and civil law enforcement functions for use by attorneys, magistrates, and judges, parole or probation authorities and other law enforcement authorities for the purpose of developing a criminal or civil investigation, prosecuting, sentencing, or determining the parole and probation status of criminal offenders or suspected criminal offenders; (2) Disclosure to personnel of other Federal, state and local law enforcement agencies, foreign or domestic, for the purpose of developing information on subjects involved in Secret Service criminal investigations and assisting other law enforcement agencies in the investigation and prosecution of violations of the criminal laws which those agencies are responsible for enforcing; (3) Disclosure to personnel of Federal, state, and local governmental agencies, where such disclosure is considered reasonably necessary for the purpose of furthering Secret Service efforts to investigate the activities of and apprehend criminal offenders and suspected criminal offenders; (4) Disclosure to personnel of Federal, state, and local governmental agencies, foreign and domestic, where there is a showing of reasonable necessity to obtain such information to accomplish a valid law enforcement purpose; (5) Disclosure to employees and officials of financial and commercial business firms and to private individuals of identifying information pertaining to actual or suspected criminal offenders where such disclosure is considered reasonably necessary for the purpose of furthering Secret Service efforts to investigate the activities of and apprehend criminal offenders and suspected criminal offenders; (6) Records maintained in this System indicating a violation or potential violation of law, whether civil, criminal or regulatory in nature, and whether arising by general statute or particular program statute, or by regulation, rule or order issued pursuant thereto, may be disclosed to the appropriate agency, whether Federal, state, local or foreign, charged with the responsibility of investigating or prosecuting such violation or charged with enforcing or implementing the statute, or rule, regulation or order issued pursuant thereto; (7) Disclosures in the course of presenting evidence to a court, magistrate or administrative tribunal and disclosures to opposing counsel in the course of discovery proceedings for the purpose of enforcing, or prosecuting, a violation or potential violation of law, whether civil, criminal or regulatory in nature and whether arising by general statute or particular program statute, or by regulation, rule or order issued pursuant thereto; (8) Disclosures to Federal, state or local agencies maintaining civil, criminal or other pertinent information or enforcement information relevant to an agency decision concerning the hiring or retention of an employee, or the issuance of a license, grant or other benefit; (9) Disclosures to a Federal, state or local agency in response to its request, in connection with the hiring or retention of an employee, the issuance of a security clearance, the reporting of an investigation of an employee, the letting of a contract or the issuance of a license, grant, or other benefit by the requesting agency, to the extent that the information is relevant and necessary to the requesting agency's decision on the matter; (10) Disclosures of information relating to criminal and civil proceedings to the news media in accordance with the guidelines contained in 28 CFR 50.2; (11) Disclosure in connection with the utilization by the Secret Service of the Northern Virginia Regional Identification System for the storage and retrieval of fingerprint information maintained by the Secret Service; (12) Disclosure to a student participating in a Secret Service student volunteer program, where such disclosure is necessary to further the efforts of the Secret Service.

POLICIES AND PRACTICES FOR STORING, RETRIEVING, ACCESSING, RETAINING, AND DISPOSING OF RECORDS IN THE SYSTEM:

STORAGE:

All records comprising this system are contained in file jackets, computerized data systems, microfilm and microfiche. Portions of the indices and information contained in the records are maintained in electronic storage media located at Headquarters.

RETRIEVABILITY:

This system is indexed by name, address, vehicle license number, and/or telephone number, and is retrieved through computer search of magnetic media indices both at Headquarters and in the field offices. Additionally, subjects are retrievable from the computerized files by physical description. Access to the physical files containing records is by case number.

SAFEGUARDS:

(1) At Headquarters, the file jackets containing the records are secured by alarms, and other internal security devices, in locked rooms with guards on duty on an around-the-clock basis. Access to the records is available only to employees responsible for records management and operational employees with a “need to know,” each of whom has a top secret security clearance; (2) In field offices the file jackets are located in locked filing cabinets and when Secret Service employees are not on duty, in locked rooms. Access to the system is controlled and limited to employees of the Secret Service holding top secret security clearances.

RETENTION AND DISPOSAL:

(1) All Judicial cases, 20 years; (2) Non-judicial criminal investigative cases (except non-judicial check and bond cases), 10 years; (3) Non-judicial check claim and bond forgery cases, 5 years; (4) Administrative files of an investigatory nature, 5 years; (5) All other files and records the disposition of which is not otherwise specified, 5 years; (6) Investigations for other districts, 2 years; (7) Receipts vary with the case file to which they pertain; (8) Investigation Control Forms, varies; (9) Arrest History Forms, Indefinite; (10) Headquarters Criminal Investigative case files, 30 years; indices and microfilm copies are retained for an indefinite period; (11) Consensual and non-consensual interception indices, 10 years or when investigative use no longer exists, whichever is longer; (12) Fingerprint and photograph files, at varying intervals in accordance with record retention schedules approved by the National Archives and Records Administration. Disposal is by burning, shredding, maceration, and pulping, and/or electronic deletion.

SYSTEM MANAGER(S) AND ADDRESS:

Assistant Director, Office of Investigations, U.S. Secret Service, 950 H St., NW, Suite 8900, Washington, DC 20223.

NOTIFICATION PROCEDURE:

In accordance with the provisions of 5 U.S.C. 552a (j) and (k), the Director of the U.S. Secret Service has exempted this System from compliance with the provisions of 5 U.S.C. 552a (e)(4)(G).

RECORD ACCESS PROCEDURES:

In accordance with the provisions of 5 U.S.C. 552a (j) and (k), the Director of the U.S. Secret Service has exempted this System from compliance with the provisions of 5 U.S.C. 552a (e)(4)(H).

CONTESTING RECORD PROCEDURES:

See “Record access procedures” above.

RECORD SOURCE CATEGORIES:

In accordance with the provisions of 5 U.S.C. 552a (j) and (k) the Director of the U.S. Secret Service has exempted this System from compliance with the provisions of 5 U.S.C. 552a (e)(4)(I).

EXEMPTIONS CLAIMED FOR THE SYSTEM:

This system is exempt from 5 U.S.C. 552a (c)(3), (c)(4), (d), (e)(1), (e)(4)(G), (e)(4)(H), and (e)(4)(I), of the Privacy Act pursuant to 5 U.S.C. 552a (j)(2) and (k)(2). See 31 CFR 1.36.

Treasury/USSS .004

System name:

Financial Management Information System—Treasury/USSS.

SYSTEM LOCATION:

(a) U.S. Secret Service (Headquarters), 950 H St. NW, Washington, DC 20223. Components of this System are geographically dispersed throughout U.S. Secret Service field offices. (See below, United States Secret Service, Appendix A, listing the addresses of Secret Service offices.) (b) U.S. Secret Service Uniformed Division, 1111 18th St., NW, Washington, DC 20223;(c) Presidential Protective Division, U.S. Secret Service, Room 10, Old Executive Office Building, 17th and Pennsylvania Ave., NW, Washington, DC 20502; (d) Vice Presidential Protective Division, U.S. Secret Service, Old Executive Office Building, Room 295, Washington, DC 20502; (e) Dignitary Protective Division, U.S. Secret Service, 950 H St., NW, Washington, DC 20223; (f) Special Services Division, U.S. Secret Service, Anacostia Naval Annex, Building 411, 245 Murray Drive, Washington, DC 20373; (g) Johnson Protective Division, U.S. Secret Service, P.O. Box 927, Stonewall, TX 78671; (h) Ford Protective Division, U.S. Secret Service, P.O. Box 955, Rancho Mirage, CA 92270-955; (i) Technical Security Division, U.S. Secret Service, 1709 New York Avenue, NW., Washington, DC 20006; (j) Carter Protective Division, U.S. Secret Service, P.O. Box 308, Plains, GA 31780. (k) Reagan Protective Division, U.S. Secret Service, 2121 Avenue Of the Stars, Century City, CA 90067, (l) Bush Protective Division, U. S. Secret Service P.O. Box 79797, Houston, Texas 77279-9797, (m) White House Security Branch, U.S. Secret Service, Old Executive Office Building, Rm. 23, Washington, DC 20502.

CATEGORIES OF INDIVIDUALS COVERED BY THE SYSTEM:

(a) Individuals who are now, or were previously, Secret Service employees; (b) Individuals, contractors, vendors, etc., who are presently doing business with or previously did business with the Secret Service; (c) Individuals who are involved in or were previously involved in tort claims with the Secret Service; (d) Individuals who are now or previously were involved in payments (accounts receivable) with the Secret Service; (e) Individuals who have been recipients of awards.

CATEGORIES OF RECORDS IN THE SYSTEM:

(a) Records containing information compiled for the purpose of pay, travel, property damage, expenses incurred other than travel, and retirement annuities and taxes; (b) Records containing information of accounts receivable and payable, involving Secret Service employees and other persons; (c) Records containing information of tort claims dealing with Secret Service property, concerning payment and accounts receivable; (d) Records containing information on the expenditures, anticipated expenditures, and budget studies of the Secret Service; (e) Time and attendance records.

AUTHORITY FOR MAINTENANCE OF THE SYSTEM:

31 U.S.C. 68, 484, 952, and 1801 through 1806, and 5 U.S.C. 5514, and 21 U.S.C. 2415.

ROUTINE USES OF RECORDS MAINTAINED IN THE SYSTEM, INCLUDING CATEGORIES OF USERS AND THE PURPOSES OF SUCH USES:

The routine uses of the records contained in this System are as follows: (1) Disclosure to the Internal Revenue Service, U.S. Treasury, GAO, OPM and other Federal agencies dealing with the payment and collection of monies concerning Secret Service employees; (2) disclosure to the Internal Revenue Service, U.S. Treasury Department, OPM, GAO, and other Federal agencies dealing with the payment, collection and audit of monies concerning persons who have financial dealings with the Secret Service; (3) To establish and maintain a means of gaining statistical information needed to answer inquiries from other Federal, state, and local governments and Congress; (4) To establish a reporting system to Treasury, OMB, GAO, and Congress concerning Secret Service expenditures; (5) To establish a means of payments to contractors and vendors for purchases made by Secret Service; (6) Disclosure to other Federal agencies to effect inter-agency salary offset and to affect inter-agency administrative offset; (7) Disclosures to debt collection agencies for debt collection services; (8) Disclosures of current mailing addresses obtained from the Internal Revenue Service, which have become a part of this system, to consumer reporting agencies to obtain credit reports and to debt collection agencies for collection services; (9) Disclosures to appropriate Federal, State, or foreign agencies responsible for investigating or prosecution of the violation of, or for enforcing or implementing, a statute, rule, regulation, order or license; (10) Disclosures to a Federal, state, or local agency, maintaining civil, criminal or other relevant enforcement information or other pertinent information, which has requested information relevant to or necessary to the requesting agency's or the bureau's hiring or retention of an employee, or issuance of a security clearance, license, contract, grant, or other benefit; (11) Disclosures to a court, magistrate, or administrative tribunal in the course of presenting evidence, including disclosures to opposing counsel or witnesses in the course of civil discovery, litigation, settlement negotiations, in response to a subpoena, or in connection with criminal law proceedings; (12) Disclosures to foreign governments in accordance with formal or informal international agreements; (13) Disclosures to a congressional office in response to an inquiry made at the request of the individual to whom the record pertains; (14) Disclosures to the news media in accordance with guidelines contained in 28 CFR 50.2 which relate to an agency's functions relating to civil and criminal proceedings; (15) Disclosure to third parties during the course of an investigation to the extent necessary to obtain information pertinent to the investigation; (16) Disclosure to a student participating in a Secret Service student volunteer program, where such disclosure is necessary to further the efforts of the Secret Service.

DISCLOSURES TO CONSUMER REPORTING AGENCIES:

Disclosures pursuant to 5 U.S.C. 552a(b)(12) may be made from this system to consumer reporting agencies as defined in the Debt Collection of 1982 (31 U.S.C. 3701 (a)(3) or the Fair Credit Reporting Act [15 U.S.C. 1681a(f)].

POLICIES AND PRACTICES FOR STORING, RETRIEVING, ACCESSING, RETAINING, AND DISPOSING OF RECORDS IN THE SYSTEM:

STORAGE:

All records are contained in files, and/or microfiche. The information contained in this System is stored in computers maintained at Headquarters.

RETRIEVABILITY:

This System is indexed by name and/or number at Headquarters and by name only in field offices, resident offices and protective divisions. Access is by name and/or number.

SAFEGUARDS:

(1) The file jackets, and computers are secured by alarms and other internal security devices in locked rooms with guards on duty on a 24-hour basis; (2) Access to the records is available only to employees responsible for records management and operational employees who have a need for such information, each of whom holds a top secret security clearance; (3) The file jackets are located in locked rooms when Secret Service employees are not on duty. Access is limited to employees holding top secret security clearances.

RETENTION AND DISPOSAL:

(1) Financial Management Division's automated accounting systems, foreign disbursement file, and paid files are retained for six years and three months; (2) Accounts receivable systems are maintained for six years and three months unless they are not liquidated; (3) Systems for holiday, overtime, and other pay adjustments, enter on duty information, resignations, retirements, reassignments, etc., are disposed of at varying intervals in accordance with records retention schedules approved by the National Archives Record Administration (NARA); (4) Records on personnel are retained in accordance with mandatory National Archives and Records Administration General Records Schedules 2, 5, 6, and 7. Disposal of records is by burning, mulching, shredding, or electronic deletion.

SYSTEM MANAGER(s) AND ADDRESS:

Assistant Director, Office of Administration, 950 H St., NW, Suite 8250, Washington, DC 20223.

NOTIFICATION PROCEDURE:

Individuals who wish to present a request as to whether this system contains a record pertaining to them should address inquiries to: Freedom of Information and Privacy Acts Officer, U.S. Secret Service, 950 H St., NW, Suite 3000, Washington, DC 20223.

RECORD ACCESS PROCEDURES:

Request for information contained in this System should be addressed to: Freedom of Information and Privacy Acts Officer, U.S. Secret Service, 950 H St., NW, Suite 3000, Washington, DC 20223.

CONTESTING RECORD PROCEDURES:

See “Record access procedures” above.

RECORD SOURCE CATEGORIES:

(a) Individuals who are presently or were previously Secret Service employees; (b) Individuals who are presently or were service contractors or suppliers with the Secret Service; (c) Individuals who are presently or were previously involved in tort claims with the Secret Service; (d) Individuals who are presently or were previously involved in collections and disbursements with the Secret Service; (e) Internal Revenue Service; (f) Surviving spouse of deceased personnel.

EXEMPTIONS CLAIMED FOR THE SYSTEM:

None.

Treasury/USSS .006

SYSTEM NAME:

Non-Criminal Investigation Information System—Treasury/USSS.

SYSTEM LOCATION:

System location: (a) U.S. Secret Service (Headquarters), 950 H St. NW, Washington, DC 20223. Components of this System are geographically dispersed throughout U.S. Secret Service field offices. (See below, United States Secret Service, Appendix A, listing the addresses of Secret Service offices.) (b) U.S. Secret Service Uniformed Division, 1111 18th St., NW, Washington, DC 20223; (c) Presidential Protective Division, U.S. Secret Service, Room 10, Old Executive Office Building, 17th and Pennsylvania Ave., NW, Washington, DC 20502; (d) Vice Presidential Protective Division, U.S. Secret Service, Old Executive Office Building, Room 295, Washington, DC 20502; (e) Dignitary Protective Division, U.S. Secret Service, 950 H St., NW, Washington, DC 20223; (f) Special Services Division, U.S. Secret Service, Anacostia Naval Annex, Building 411, 245 Murray Drive, Washington, DC 20373; (g) Johnson Protective Division, U.S. Secret Service, P.O. Box 927, Stonewall, TX 78671; (h) Ford Protective Division, U.S. Secret Service, P.O. Box 955, Rancho Mirage, CA 92270-955; (i) Technical Security Division, U.S. Secret Service, 1709 New York Avenue, NW., Washington, DC 20006; (j) Carter Protective Division, U.S. Secret Service, P.O. Box 308, Plains, GA 31780. (k) Reagan Protective Division, U.S. Secret Service, 2121 Avenue Of the Stars, Century City, CA 90067, (l) Bush Protective Division, U. S. Secret Service P.O. Box 79797, Houston, Texas 77279-9797, (m) White House Security Branch, U.S. Secret Service, Old Executive Office Building, Rm. 23, Washington, DC 20502, (n) WAVES Center, Old Executive Office Building, Rm. 065, Washington, DC 20502.

CATEGORIES OF INDIVIDUALS COVERED BY THE SYSTEM:

(a) Individuals who are applicants for employment with the U.S. Secret Service and other bureaus of the Department of the Treasury; (b) Individuals who are employees of the U.S. Secret Service and other bureaus of the Department of the Treasury holding security clearances granting access to classified documents and records; (c) Individuals who have filed administrative claims with the Secret Service and other bureaus of the Department of the Treasury under the Federal Tort Claims Act or who have been involved in automobile accidents or other incidents involving employees of the Secret Service and other bureaus of the Department of the Treasury resulting in tort claims against such individuals; (d) Individuals involved in investigations required in the administration of the Government Losses in Shipment Act, the Gold Reserve Act, and the Silver Purchase Act; (e) Individuals who are employees of the Secret Service and other bureaus of the Department of the Treasury who have been accused of misconduct in the performance of their duties, or who have been the subject of a complaint involving the performance of their official functions; (f) Individuals who are the subject of investigations or supply information to investigative agents conducting special investigations relating to the performance by the Secret Service of its statutory and regulatory functions.

CATEGORIES OF RECORDS IN THE SYSTEM:

(a) Record containing investigatory material compiled solely for the purpose of determining suitability, eligibility, or qualifications for Federal civilian employment or access to classified information; (b) Records containing investigatory material compiled for law enforcement purposes, including but not limited to, reports of investigators relating to claims under the Federal Tort Claims Act, Government Losses in Shipment Act, the Gold Reserve Act and the Silver Purchase Act, and employee misconduct or malfeasance; (c) Records containing reports or statement of investigators, witnesses, complainants, claimants and correspondents associated with identifiable individuals.

AUTHORITY FOR MAINTENANCE OF THE SYSTEM:

18 U.S.C. 3056, Executive Order 10450 and Treasury Order 102-18 (revised March, 1985); and Treasury Order 173-1.

ROUTINE USES OF RECORDS MAINTAINED IN THE SYSTEM, INCLUDING CATEGORIES OF USERS AND THE PURPOSES OF SUCH USES:

The routine uses of the records contained in this System are as follows: (1) Disclosure to the Department of Justice and other Federal agencies for administrative, civil, or other legal proceedings to be used by personnel officials, attorneys, administrative law officers, and judges; (2) Disclosure to personnel of other Federal, state and local governmental agencies, foreign and domestic, for the purpose of developing or confirming information on individuals involved in non-criminal investigations conducted by the Secret Service; (3) Disclosure to personnel of private institutions and to private individuals for the purpose of confirming and/or determining suitability, eligibility, or qualifications for Federal civilian employment or access to classified information; and for the purposes of furthering the efforts of the Secret Service to investigate the activities of individuals related to or involved in non-criminal civil and administrative investigations; (4) Disclosure to another agency or to an instrumentality of any governmental jurisdiction within or under the control of the United States for the purpose of determining suitability, eligibility, or qualifications for employment with or access to classified information in such other agency or instrumentality; (5) Records maintained indicating a violation or potential violation of law, whether civil, criminal or regulatory in nature, and whether arising by general statute or particular program statute, or by regulation, rule or order issued pursuant thereto, may be referred to the appropriate agency, whether Federal, state, local or foreign, charged with the responsibility of investigating or prosecuting such violation or charged with enforcing or implementing the statute, or rule, regulation or order issued pursuant thereto; (6) Disclosures in the course of presenting evidence to a court, magistrate or administrative tribunal and disclosures to opposing counsel in the course of discovery proceedings for the purpose of enforcing, or prosecuting, a violation or potential violation of law, whether civil, criminal or regulatory in nature and whether arising by general statute or particular program statute, or by regulation, rule or order issued pursuant thereto; (7) Disclosures to Federal, state or local agencies maintaining civil, criminal or other relevant enforcement information or other pertinent information, such as current licenses, if necessary to obtain information relevant to an agency decision concerning the hiring or retention of an employee, the issuance of a security clearance, the letting of a contract, or the issuance of a license, grant or other benefit, to the extent that the information is relevant and necessary to the requesting agencies' decision on the matter; (8) Disclosures of information relating to civil proceedings to the news media in accordance with the guidelines contained in 28 CFR 50.2; (9) Disclosure to Federal, state, or local government agencies for the purpose of developing a relevant ongoing civil, criminal, or background investigation; (10) Disclosure to a student participating in a Secret Service student volunteer program, where such disclosure is necessary to further the efforts of the Secret Service.

POLICIES AND PRACTICES FOR STORING, RETRIEVING, ACCESSING, RETAINING, AND DISPOSING OF RECORDS IN THE SYSTEM:

STORAGE:

Records comprising this system are contained in file jackets, computerized data systems, microfilm, and microfiche. Portions of the information are maintained in on-line computer data files located at Headquarters.

RETRIEVABILITY:

This System is indexed alphabetically by name in Headquarters, Office of Inspection, and in field offices and retrieved through manual search of index cards and/or through computer search of magnetic media. Access to the physical files is by case number obtained from the name indices.

SAFEGUARDS:

(1) The file jackets, indices and magnetic media are secured by alarms and other internal security devices in locked rooms with guards on duty on an around-the-clock basis. Access to the records is available only to employees responsible for record management and operational employees who have a need for such information, each of whom holds a top secret security clearance; (2) The file jackets field offices are located in locked filing cabinets and when employees are not on duty, in locked rooms. Access to the system is limited to employees holding top secret security clearances.

RETENTION AND DISPOSAL:

The retention schedule is as follows: (1) All judicial case records are retained for a period of 30 years; (2) Applicant security and background investigation records of Secret Service employees are retained for 20 years after retirement or separation of the employee from Secret Service employment; (3) Applicant investigation records relating to employees of Bureaus of the Treasury Department other than the Secret Service, are retained for 20 years; (4) All other records, the disposition of which are not otherwise specified, are retained. No destruction authorized. Magnetic media indices are retained for an indefinite period of time. Disposal: Disposal of records is by burning, shredding, maceration, pulping, and electronic deletion.

SYSTEM MANAGER(S) AND ADDRESS:

Assistant Directors, Office of Investigation and Office of Inspection, 950 H St., NW, Washington, DC 20223.

Notification procedure:

The Director of the U.S. Secret Service has exempted this System from the provisions of 5 U.S.C. 552a (e)(4)(G).

Record access procedures:

The Director of the U.S. Secret Service has exempted this System from the provisions of 5 U.S.C. 552a (e)(4)(H).

Contesting record procedures:

See “Record access procedures” above.

Record source categories:

The Director of the U.S. Secret Service has exempted this System from the provisions of 5 U.S.C. 552a (e)(4)(I).

Exemptions claimed for the system:

This system is exempt from 5 U.S.C. 552a (c)(3), (d), (e)(4)(G), (e)(4)(H), (e)(4)(I) and (f) of the Privacy Act pursuant to 5 U.S.C. 552a (j)(2) and (k)(2). See 31 CFR 1.36.

Treasury/USSS .007

System name:

Protection Information System—Treasury/USSS.

System location:

(a) U.S. Secret Service (Headquarters), 950 H St. NW, Washington, DC 20223. Components of this System are geographically dispersed throughout U.S. Secret Service field offices. (See below, United States Secret Service, Appendix A, listing the addresses of Secret Service offices.) (b) U.S. Secret Service Uniformed Division, 1111 18th St., NW, Washington, DC 20223;(c) Presidential Protective Division, U.S. Secret Service, Room 10, Old Executive Office Building, 17th and Pennsylvania Ave., NW, Washington, DC 20502; (d) Vice Presidential Protective Division, U.S. Secret Service, Old Executive Office Building, Room 295, Washington, DC 20502; (e) Dignitary Protective Division, U.S. Secret Service, 950 H St., NW, Washington, DC 20223; (f) Special Services Division, U.S. Secret Service, Anacostia Naval Annex, Building 411, 245 Murray Drive, Washington, DC 20373; (g) Johnson Protective Division, U.S. Secret Service, P.O. Box 927, Stonewall, TX 78671; (h) Ford Protective Division, U.S. Secret Service, P.O. Box 955, Rancho Mirage, CA 92270-955; (i) Technical Security Division, U.S. Secret Service, 1709 New York Avenue, NW., Washington, DC 20006; (j) Carter Protective Division, U.S. Secret Service, P.O. Box 308, Plains, GA 31780. (k) Reagan Protective Division, U.S. Secret Service, 2121 Avenue Of the Stars, Century City, CA 90067, (l) Bush Protective Division, U. S. Secret Service P.O. Box 79797, Houston, Texas 77279-9797, (m) White House Security Branch, U.S. Secret Service, Old Executive Office Building, Rm. 23, Washington, DC 20502, (n) WAVES Center, Old Executive Office Building, Rm. 065, Washington, DC 20502

Categories of individuals covered by the system:

(a) Individuals who have been or are currently the subject of a criminal investigation by the U.S. Secret Service or another law enforcement agency for the violation of certain criminal statutes relating to the protection of persons or the security of properties; (b) Individuals who are the subjects of investigative records and reports supplied to the Secret Service by Federal, state, and local law enforcement agencies, foreign or domestic, other non-law enforcement governmental agencies, or private institutions and individuals; (c) Individuals who are the subjects of non-criminal protective and background investigations by the Secret Service and other law enforcement agencies where the evaluation of such individuals, in accordance with criteria established by the Secret Service, indicates a need for such investigations; (d) Individuals who are granted ingress and egress to areas secured by the Secret Service, or to areas in close proximity to persons protected by the Secret Service, including but not limited to invitees, passholders, tradesmen, and law enforcement, maintenance or service personnel; (e) Individuals who have attempted or solicited unauthorized entry into areas secured by the Secret Service; individuals who have sought an audience or contact with persons protected by the Secret Service or who have been involved in incidents or events which relate to the protective functions of the Secret Service; (f) Individuals who are witnesses, protectees, suspects, complainants, informants, defendants, fugitives, released prisoners, and correspondents who have been identified by the Secret Service or from information supplied by other law enforcement agencies, governmental units, private institutions, and members of the general public in connection with the performance by the Secret Service of its authorized protective functions.

CATEGORIES OF RECORDS IN THE SYSTEM:

(a) Records containing information compiled for the purpose of identifying individual criminal offenders and alleged offenders and consisting only of identifying data and notations of arrest, the nature and disposition of criminal charges, sentencing, confinement, release, and parole or probation status; (b) Records containing information compiled for the purpose of a criminal investigation, including reports of informants and investigators, which are associated with an identifiable individual; (c) Records containing reports relative to an individual compiled at various stages of the process of enforcement of certain criminal laws from arrest or indictment through release from supervision; (d) Records containing information supplied by other Federal, state, and local law enforcement agencies, foreign or domestic, other non-law enforcement governmental agencies, private institutions and persons concerning individuals who, because of their activities, personality traits, criminal or mental history, or history of social deviancy, may be of interest to the Secret Service in connection with the performance by that agency of its protective functions; (e) Records containing information compiled for the purpose of identifying and evaluating individuals who may constitute a threat to the safety of persons or security of areas protected by the Secret Service; (f) Records containing information compiled for the purpose of background investigations of individuals, including but not limited to, passholders, tradesmen, maintenance or service personnel who have access to areas secured by or who may be in close proximity to persons protected by the Secret Service.

AUTHORITY FOR MAINTENANCE OF THE SYSTEM:

The protective authority is contained in 18 U.S.C. 3056 and Section 1 of Public Law 90-331, (18 U.S.C. 871; 18 U.S.C. 1751). The protective and security authority of the U.S. Secret Service Uniformed Division is contained in 3 U.S.C. 202.

ROUTINE USES OF RECORDS MAINTAINED IN THE SYSTEM, INCLUDING CATEGORIES OF USERS AND THE PURPOSES OF SUCH USES:

The routine uses are as follows: (1) Disclosure to the Department of Justice and other Federal, state, and local governmental agencies having a prosecutive function for the use of attorneys, magistrates, and judges; and parole and probation authorities for the purpose of prosecuting, sentencing, and determining the parole and probation status of criminal offenders or suspected criminal offenders; and for civil and other proceedings involving Secret Service Protective functions; (2) Disclosure to personnel of other Federal, state and local law enforcement agencies, foreign or domestic, for the purpose of developing information on subjects involved in Secret Service protective investigations and evaluations and for the purpose of protective intelligence briefings of personnel of other law enforcement and governmental agencies assisting the U.S. Secret Service in the performance of its protective functions; (3) Disclosure to personnel of Federal, state, and local governmental agencies, foreign or domestic, where such disclosures are considered reasonably necessary for the purpose of furthering Secret Service efforts to investigate the activities of those persons considered to be of protective interest; (4) Disclosure to personnel of Federal, state, and local law enforcement agencies and other governmental agencies, foreign or domestic, where there is a showing of a reasonable need to accomplish a valid enforcement purpose; (5) Disclosure to personnel of private institutions and to private individuals of identifying information pertaining to actual or suspected criminal offenders or other individuals considered to be of protective interest for the purpose of furthering Secret Service efforts to evaluate the danger such individuals pose to persons protected by that agency; (6) Records indicating a violation or potential violation of law, whether civil, criminal, or regulatory in nature, and whether arising by general statute or particular program statute, or by regulation, rule, or order issued pursuant thereto, may be disclosed to the appropriate agency, whether Federal, state, local or foreign, charged with the responsibility of investigating or prosecuting such violation or charged with enforcing or implementing the statute, or rule, regulation, or order issued pursuant thereto; (7) Disclosures in the course of presenting evidence to a court, magistrate or administrative tribunal and disclosures to opposing counsel in the course of discovery proceedings for the purpose of enforcing, or prosecuting, a violation or potential violation of law, whether civil, criminal or regulatory in nature and whether arising by general statute or particular program statute, or by regulation, rule or order issued pursuant thereto; (8) Disclosures and/or responses to Federal, state or local agencies maintaining civil, criminal or other relevant law enforcement information or other pertinent information, such as current licenses, if necessary to obtain information relevant to an agency decision concerning the hiring or retention of an employee, the issuance of a security clearance, the issuance of a contract, grant or other benefit, to the extent that the information is relevant and necessary to the requesting agency's decision on the matter; (9) Disclosures of information relating to criminal and civil proceedings to the news media in accordance with the guidelines contained in 28 CFR 50.2; (10) Disclosure to a student participating in a Secret Service student volunteer program, where such disclosure is necessary to further the efforts of the Secret Service.

POLICIES AND PRACTICES FOR STORING, RETRIEVING, ACCESSING, RETAINING, AND DISPOSING OF RECORDS IN THE SYSTEM:

STORAGE:

All records are contained in file jackets, microfilm, or microfiche. Portions of the information contained in the records are maintained in on-line computer data files located at Headquarters and in the Old Executive Office Building.

RETRIEVABILITY:

This System is indexed by case number and other case related data in master and magnetic media indices. Access to the physical files is by case number, both at Headquarters and the field offices.

SAFEGUARDS:

(1) The file jackets and magnetic media are secured in locked rooms secured by alarms and other internal security devices with guards on duty on a twenty four hour basis. Access to the records is available only to employees responsible for record management and operational employees who have a need for such information, each of whom holds a top secret security clearance; (2) The file jackets in field offices are located in locked filing cabinets and in locked and alarmed rooms when employees are not on duty. Access to the system is limited to employees of the Secret Service holding top secret security clearances.

RETENTION AND DISPOSAL:

The retention schedule for records is as follows: (1) All judicial case records are retained for a period of 30 years. In cases where periodic checkups are conducted in protective intelligence cases, the retention period is computed from the date of the final check-up. (2) All other protective intelligence case records including protective surveys and non-judicial protective intelligence cases are routinely retained for a period of five years; (3) Disposal of records contained in this System is by burning or shredding.

SYSTEM MANAGER(s) AND ADDRESS:

Assistant Director, Office of Protective Research, Assistant Director Protective Operations, U.S. Secret Service, 950 H St., NW, Washington, DC 20223.

NOTIFICATION PROCEDURE:

In accordance with the provisions of 5 U.S.C. 552a (j) and (k) the Director of the U.S. Secret Service has exempted this System from the provisions of 5 U.S.C. 552a(e)(4)(G).

RECORD ACCESS PROCEDURES:

In accordance with the provisions of 5 U.S.C. 552a (j) and (k) the Director of the U.S. Secret Service has exempted this System from the provisions of 5 U.S.C. 552a(e)(4)(H).

CONTESTING RECORD PROCEDURES:

See “Record access procedures” above.

RECORD SOURCE CATEGORIES:

In accordance with the provisions of 5 U.S.C. 552a (j) and (k) the Director of the U.S. Secret Service has exempted this System from the provisions of 5 U.S.C. 552a(e)(4)(I).

EXEMPTIONS CLAIMED FOR THE SYSTEM:

This system is exempt from 5 U.S.C. 552a (c)(2), (c)(3), (c)(4), (d), (e)(3), (e)(4)(G), (e)(4)(H), (e)(4)(I), (e)(5), (e)(8), (f) and (g) of the Privacy Act pursuant to 5 U.S.C. 552a (j)(2), (k)(2) and (k)(3). See 31 CFR 1.36.

Treasury/USSS .008

SYSTEM NAME:

Public Affairs Record System—Treasury/USSS.

SYSTEM LOCATION:

U.S. Secret Service, 950 H St., NW, Washington, DC 20223.

CATEGORIES OF INDIVIDUALS COVERED BY THE SYSTEM:

(a) Persons who are private citizens who correspond requesting information relating to the Secret Service; (b) Persons who are members of the news media, authors and publishers requesting information about the Secret Service; (c) Members of Congress who make inquiries with the Secret Service; (d) Persons who are recipients of the Secret Service Honor Award, who have received recognition from or assisted the Secret Service.

CATEGORIES OF RECORDS IN THE SYSTEM:

(a) Records of inquiries received from the general public, the communication media and the press relative to Secret Service activities; (b) Records of awards presented by the Secret Service; (c) Records of Congressional inquiries and correspondence.

AUTHORITY FOR MAINTENANCE OF THE SYSTEM:

18 U.S.C. 3056 and Treasury Department Order Number 173-3, dated October 29, 1965.

ROUTINE USES OF RECORDS MAINTAINED IN THE SYSTEM, INCLUDING CATEGORIES OF USERS AND THE PURPOSES OF SUCH USES:

The routine uses are as follows: (1) Disclosures and/or responses to members of Congress and/or the general public. (2) Disclosure to a student participating in a Secret Service student volunteer program, where such disclosure is necessary to further the efforts of the Secret Service.

POLICIES AND PRACTICES FOR STORING, RETRIEVING, ACCESSING, RETAINING, AND DISPOSING OF RECORDS IN THE SYSTEM:

STORAGE:

Records comprising this System are maintained in file jackets.

RETRIEVABILTY:

Records are filed alphabetically and chronologically.

SAFEGUARDS:

The records are secured in locked filing cabinets and/or in locked rooms, with guards on duty on a twenty four hour basis. Access is available only to employees responsible for management of the system and operational employees who have a need for such information, each of whom holds a top secret security clearance.

RETENTION AND DISPOSAL:

Records in this system are maintained in accordance with mandatory General Services Administration, Records Schedule 14, Items 1-7. Disposal of records is by burning, shredding, and electronic deletion.

SYSTEM MANAGER(S) AND ADDRESS:

Assistant Director, Office of Government Liaison and Public Affairs, U.S. Secret Service, 950 H St., NW, Suite 8400, Washington, DC 20223.

NOTIFICATION PROCEDURE:

Individuals who wish to present a request as to whether this system contains records pertaining to them should address inquiries to: Freedom of Information and Privacy Acts Officer, U.S. Secret Service, 950 H St., NW, Suite 3000, Washington, DC 20223.

RECORD ACCESS PROCEDURES:

Requests for information contained in the System should be addressed to: Freedom of Information and Privacy Acts Officer, U.S. Secret Service, 950 H St., NW, Suite 3000, Washington, DC 20223.

CONTESTING RECORD PROCEDURES:

See “Record access procedures” above.

RECORD SOURCE CATEGORIES:

(a) The general public, the news media and members of Congress who correspond with the Secret Service; (b) Persons who have received awards or honors from the Secret Service.

EXCEPTIONS CLAIMED FOR THE SYSTEM:

None.

Treasury/USSS .009

SYSTEM NAME:

Training Information System—Treasury/USSS.

SYSTEM LOCATION:

James J. Rowley Training Center, Laurel, MD 20708.

CATEGORIES OF INDIVIDUALS COVERED BY THE SYSTEM:

Individuals who are now or were Secret Service employees and officers of the U.S. Secret Service Uniformed Division.

CATEGORIES OF RECORDS IN THE SYSTEM:

Records containing the type and dates of training programs of the U.S. Secret Service employees, officers of the U.S. Secret Service Uniformed Division including course control documents and lesson plans for classes conducted by the Office of Human Resources and Training.

AUTHORITY FOR MAINTENANCE OF THE SYSTEM:

18 U.S.C. 3056.

ROUTINE USES OF RECORDS MAINTAINED IN THE SYSTEM, INCLUDING CATEGORIES OF USERS AND THE PURPOSES OF SUCH USES:

Disclosure to a student participating in a Secret Service student volunteer program, where such disclosure is necessary to further the efforts of the Secret Service, otherwise, disclosures are not made outside of the Agency.

POLICIES AND PRACTICES FOR STORING, RETRIEVING, ACCESSING, RETAINING, AND DISPOSING OF RECORDS IN THE SYSTEM:

STORAGE:

Records are maintained on cards and in a computer database.

RETRIEVABILITY:

Records are filed alphabetically.

SAFEGUARDS:

Records are secured in locked rooms with alarms when employees are not on duty. Access is available only to employees responsible for management of the records and operational employees who have a need for such information, each of whom holds a top secret security clearance.

RETENTION AND DISPOSAL:

Records are currently disposed of at varying intervals in accordance with record retention schedules approved by the National Archives and Records Administration (NARA).

SYSTEM MANAGER(S) AND ADDRESS:

Assistant Director, Office of Human Resources and Training, U.S. Secret Service, 950 H St., Suite 8600, NW, Washington, DC 20223.

NOTIFICATION PROCEDURE:

Individuals who wish to present a request as to whether this system contains records pertaining to them should address inquiries to: Freedom of Information and Privacy Acts Officer, U.S. Secret Service, 950 H St., NW., Suite 3000, Washington, DC 20223.

RECORD ACCESS PROCEDURES:

Requests for information contained in the System should be addressed to: Freedom of Information and Privacy Acts Officer, U.S. Secret Service, 950 H St., NW, Suite 3000, Washington, DC 20223.

CONTESTING RECORD PROCEDURES:

See “Record access procedures” above.

RECORD SOURCE CATEGORIES:

(a) Individuals who are now or were Secret Service employees, officers of the U.S. Secret Service Uniformed Division, (b) Individuals from other Federal, state and local law enforcement agencies.

EXCEPTIONS CLAIMED FOR THE SYSTEM:

None.

USSS Appendix A

U.S. Secret Service field offices and resident offices:

Great Washington Professional Building, 441 Wolf Ledges Parkway, Akron, OH 44311

Compass Bank Building, 505 Marquette Street, NW, Suite 1700, Albuquerque, NM 87102

6100 Rockside Woods Blvd., Room 440, Cleveland, OH 44131-2334. Equitable Building, P.O. Box 54407, Atlanta, GA 30308

Ventnor Professional Campus, 6601 Ventnor Ave., Suite 501, Ventnor City, NJ 08406

Federal Office Building, 300 East 8th Street, Suite 972, Austin, TX 78701

100 S. Charles Street, 11th Floor, Baltimore, MD 21201

125 East John W. Carpenter Fwy, Suite #300, Irving, TX 75062

Daniel Bldg., 15 South 20th St., Suite 1125, Birmingham, AL 35233

Thomas P. O'Neill, Jr. Federal Bldg., 10 Causeway Street, Suite 791, Boston, MA 02222-1080

610 Main St., Suite 300, Buffalo, NY 14202

BB&T Square, 300 Summers Start, Suite 910, Charleston, WV 25301

One Fairview Center, 6302 Fairview Rd., Suite 400, Charlotte, NC 28210

Gateway IV Building, 300 Riverside Plaza, Suite 1200 North, Chicago, IL 60606

John Weld Peck Federal Building, 550 Main Street, Room 6118, Cincinnati, OH 45202

6100 Rockside Woods Blvd., Suite 440, Cleveland, OH 44131

Strom Thurmond Federal Bldg., 1835 Assembly Street, Suite 1425, Columbia, SC 29201

500 South Front Street, Suite 800, Columbus, OH 43215

125 East John W. Carpenter, Suite 300, Irving, TX 75062

1660 Lincoln Street, Suite 1430, Denver, CO 80264

Patrick V. McNamara Building, Suite 1000, 477 Michigan Avenue, Detroit, MI 48226

Mesa One Building, 4849 North Mesa, Suite 210, El Paso, TX 79912

330 Ionia Ave., NW, Suite 302, Grand Rapids, MI 49503-2350

301 North Main Street, Greenville, SC 29601

300 Ala Moana Boulevard; Room 6-210, P.O. Box 50046, Honolulu, HI 96850

602 Sawyer St., Suite 500, Houston, TX 77007

Federal Building, 575 N. Pennsylvania Street, Suite 211, Indianapolis, IN 46204

Federal Bldg., 100 West Capitol Street, Suite 840, Jackson, MS 39269

7820 Arlington Expressway, Suite 500, Jacksonville, FL 32211

JFK International Airport, Bldg.#75, Room 246, Jamaica, NY 11430

1150 Grand Avenue, Suite 510, Kansas City, MO 64106

P.O. Box 16027, Federal Station, Las Vegas, NV 89101

111 Center Street, Suite 1700, Little Rock, AR 72201

RoyBal Federal Bldg., 17th Fl., 255 E. Temple Street, Los Angeles, CA 90012

377 Federal Building, 600 Dr. Martin Luther King, Jr., Place, Louisville, KY 40202

35 Pinelawn Road, Suite 216E, Melville, NY 11747

5350 Poplar Ave., Suite 204, Memphis, TN 38119

8375 Northwest 53rd Street, Suite 100, Miami, FL 33166

572 Federal Courthouse, 517 E. Wisconsin Ave., Milwaukee, WI 53202

U.S. Courthouse, 300 South 4th Street, Minneapolis, MN 55415

182 Saint Francis Street, Suite 200, Mobile, AL 32501

U.S. Courthouse 658, 801 Broadway Street, Nashville, TN 37203

Headquarters Plaza—West Tower, Suite 700, One Speedwell Ave., Morristown, NJ 07960

P.O. Box 45, New Haven, CT 06501

Hale Boggs Federal Building, 501 Magazine St., Room 807, New Orleans, LA 70130

7 World Trade Center, 9th Fl., New York, NY 10048-1901

Federal Building, Suite 640, 200 Granby Street, Norfolk, VA 23510

Lakepointe Towers, Suite 650, 4013 NW Expressway, Oklahoma City, OK 73116

2707 North 108th Street, Suite 301, Omaha, NE 68164

135 W. Central Blvd., Suite 670, Orlando, FL 32801

7236 Federal Building, 600 Arch Street, Philadelphia, PA 19106-1676

3200 North Central Ave., Suite 1450, Phoenix, AZ 85012

William S. Moorehead Federal Bldg., 1000 Liberty Avenue, Room 1611, Pittsburgh, PA 15222

The Federal Center, 380 Westminster St., Suite 343, Providence, RI 02903

4407 Bland Road, Suite 210, Raleigh, NC 27609

Main St Centre, 600 East Main Street, Suite 1910, Richmond, VA 23219

4371 Latham St., Suite 203, Riverside, CA 92501

501 I Street, Suite 9-5000, Sacramento, CA 95814

301 E Genesee, Suite 200, Saginaw, MI 48607

111 South 10th Street, St. Louis, MO 63102

American Plaza II, 57 West 200 South, Suite 450, Salt Lake City, UT 84101

727 E. Durango Blvd.,Room B410, Federal Building, San Antonio, TX 78206

550 West C St., Suite 660, San Diego, CA 92101

345 Spear St., Suite 530, San Francisco, CA 94105

U.S. Courthouse and Federal Building, 280 South 1st St., Suite 2050, San Jose, CA 95113

200 W. Santa Ana Blvd., Suite 500, Santa Ana, CA 92701

915 Second Ave., Room 806, Seattle, WA 98174

601 W. Riverside Avenue, Suite 1340, Spokane, WA 99201

400 West Monroe, Suite 301, Springfield, IL 62704

501 East Polk St., Room 1101, Tampa, FL 33602

402 East State Street, Trenton, NJ 08608

1050 Connecticut Ave., NW, Suite 1000, Washington, DC 20036

Suite 800, 505 South Flagler Drive, West Palm Beach, FL 33401

140 Grand St., Suite 300, White Plains, NY 10601

920 King Street, Suite 414, Wilmington, DE 19801

American Embassy/USSS—Bangkok Box 64, APO AP 96546

U.S. Embassy—Bogota, Unit 5146, APO AA 34038

American Embassy, Bonn, PSC 117, Box 300, APO AE 09080

U.S. Consulate, Montreal, P.O. Box 847, Champlain, NY 12919-0847

American Embassy/USSS—London, England PSC 801, Box 64, FPO AE 09498-4064

1510 FD Roosevelt Ave., Suite 3B, Guaynabo, PR 00968

United States Consulate General, PSC 59, Milan, APO AE 09624

American Embassy, Nicosia, PSC 815, FPO AE 09836

American Embassy/USSS—Manila, Philippines PSC 500 Box 12 FPO AP 96515

American Embassy/USSS—Paris, PSC 116, Box D306, APO AE 09777-5000

American Embassy/USSS—Rome, Italy PSC 59, Box 62, USSS, APO AE 09624

U.S. Consulate General, PSC 464, Box 25, FPO AP 96521-0006

U.S. Embassy, P.O. Box 5000, Ogdensburg, NY 13669

PCS 120, Box 3000, APO AE 09265

PSC 77 (USSS), APO AE 09721

Department of State, 9300 Pretoria Place, Washington, DC 20521

U.S. Consulate, Vancover, P.O. Box 5002, Point Roberts, WA 98281

[FR Doc. 01-21653 Filed 8-27-01; 8:45 am]

BILLING CODE 4810-42-P